DEPARTMENT OF AGRICULTURE

Rural Utilities Service

7 CFR Parts 1724 and 1726

Correction of Electric Program Standard Contract Forms

AGENCY: Rural Utilities Service, USDA.

ACTION: Final rule.

SUMMARY: The Rural Utilities Service (RUS), an agency delivering the United States Department of Agriculture's Rural Development Utilities Programs, is correcting its regulations relating to two RUS forms. RUS Form 211, Engineering Services Contract for the Design and Construction of a Generating Plant, and RUS Form 198, Equipment Contract, are being revised to correct two typographical errors and a numbering error, respectively.

DATES: Effective Date: September 27, 2004.

FOR FURTHER INFORMATION CONTACT: Mr. Fred J. Gatchell, Deputy Director, Electric Staff Division, Rural Utilities Service, U.S. Department of Agriculture, Stop 1569, 1400 Independence Ave., SW., Washington, DC 20250-1569. Telephone: (202) 720-1398. FAX: (202) 720-7491. E-mail: fred.gatchell@usda.gov.

SUPPLEMENTARY INFORMATION: RUS has determined that pursuant to 5 U.S.C. 553, a notice of proposed rule making and opportunity for comment is impracticable, unnecessary, or contrary to the public interest and is exempt from the provisions of Executive Order Nos. 12866 and 12988. It has been determined that the Regulatory Flexibility Act is not applicable to this rule since the Rural Utilities Service is not required by 5 U.S.C. 551 et seq. or any other provision of law to publish a notice of proposed rulemaking with respect to the subject matter of this rule.

Background

On June 29, 1998, RUS revised 7 CFR 1724, Electric Engineering, Architectural Services and Design Policies and Procedures, which references RUS Form 211, Engineering Services Contract for the Design and Construction of a Generating Plant (63 FR 35312). A typographical error has been found in Article VI, Section 8 of this form. This rule updates the reference to the corrected form.

On February 13, 2004, RUS revised 7 CFR 1726, Electric System Construction Policies and Procedures, which references RUS Form 198, Equipment Contract (69 FR 7105). A typographical error has been found in Article II, Section 1 of this form. Also, a numbering error has been found in Article VI of this form. This rule updates the reference to the corrected form.

List of Subjects

7 CFR Part 1724

Electric power, Loan programs—energy, Reporting and recordkeeping requirements, Rural areas.

7 CFR Part 1726

Electric power, Loan programs—energy, Reporting and recordkeeping requirements, Rural areas.

For reasons set forth in the preamble, RUS amends 7 CFR parts 1724 and 1726 as follows:

PART 1724—ELECTRIC ENGINEERING, ARCHITECTURAL SERVICES AND DESIGN POLICIES AND PROCEDURES

1. The authority citation for part 1724 continues to read as follows:

Authority: 7 U.S.C. 901 et seq., 1921 et seq., 6941 et seq.

Subpart F—RUS Contract Forms

2. Amend § 1724.74 by revising paragraph (c)(1) to read as follows:

§ 1724.74 List of electric program standard contract forms.

* * * * *

(c) * * *

(1) RUS Form 211, Rev. 4-04, Engineering Service Contract for the Design and Construction of a Generating Plant. This form is used for engineering services for generating plant construction.

* * * * *

PART 1726—ELECTRIC SYSTEM CONSTRUCTION POLICIES AND PROCEDURES

3. The authority citation for part 1726 continues to read as follows:

Authority: 7 U.S.C. 901 et seq., 1921 et seq., 6941 et seq.

Subpart I—RUS Standard Forms

4. Amend § 1726.304 by revising paragraph (c)(4) to read as follows:

§ 1726.304 List of electric program standard contract forms.

* * * * *

(c) * * *

(4) RUS Form 198, Rev. 4-04, Equipment Contract. This form is used for equipment purchases.

* * * * *

Dated: August 17, 2004.
Hilda Gay Legg,
Administrator, Rural Utilities Service.

[FR Doc. 04-19584 Filed 8-26-04; 8:45 am]

BILLING CODE 3410-15-P